DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of 4 individuals and 2 entities) whose property and interests in property have been blocked pursuant to the Foreign Narcotics Kingpin Designation Act (“Kingpin Act”) (21 U.S.C. 1901-1908, 8 U.S.C. 1182).

DATES: The designation by the Director of OFAC of the four individuals and three entities identified in this notice pursuant to section 805(b) of the Kingpin Act is effective on June 20, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On June 20, 2012, the Director of OFAC designated the following four individuals and two entities whose property and interests in property are blocked pursuant to section 805(b) of the Kingpin Act.

Individuals

1. BARAKZAI, Shah Mohammad; DOB 01 Jan 1979; POB Nava, Lash Kargah, Afghanistan; nationality Afghanistan (individual) [SDNTK] Linked To: NEW AHMADI LTD.

2. HADI, Abdul (a.k.a. “DOCTOR”); DOB 01 Oct 1979; POB Nawzad District of Helmand Province; citizen Afghanistan (individual) [SDNTK].

3. MOHAMMAD, Haji Baz; DOB 12 Mar 1964; citizen Afghanistan (individual) [SDNTK].

4. WALI, Mohammad; DOB 02 Dec 1975; alt. DOB 02 Oct 1975; citizen Afghanistan (individual) [SDNTK] Linked To: MOHAMMAD WALI MONEY EXCHANGE.

Entities

1. MOHAMMAD WALI MONEY EXCHANGE (a.k.a. NEW AHMADY LTD. KANDAHAR), Sarafi Market, Fourth Floor, Shop #1, Kandahar, Afghanistan [SDNTK].

2. NEW AHMADI LTD. (a.k.a. NEW AHMADI COMPANY LTD; a.k.a. NEW AHMADY LTD), Sarafi Market, Shop 48/49, Gereshk, Helmand, Afghanistan [SDNTK].

Dated: June 20, 2012.
Adam J. Szubin,
Director, Office of Foreign Assets Control.

[FR Doc. 2012-15488 Filed 6-25-12; 8:45 am]

BILLING CODE 4811-AL-P